DEPARTMENT OF HOUSING AND URBAN DEVELOPMENT

[Docket No. FR-5683-N-21]

Notice of Submission of Proposed Information Collection to OMB: Public Housing Reform; Change in Admission and Occupancy Requirements

AGENCY: Office of the Chief Information Officer, HUD.

ACTION: Notice.

SUMMARY: The proposed information collection requirement described below has been submitted to the Office of Management and Budget (OMB) for review, as required by the Paperwork Reduction Act. The Department is soliciting public comments on the subject proposal.

The collection of information implements changes to the admission and occupancy requirements for the public housing and Section 8 assisted housing programs made by the Quality Housing and Work Responsibility (QHWRA) Act 1998 (Title V of the FY 1999 HUD appropriations Act, Pub. L. 105-276, 112 Stat. 2518, approved October 21, 1998), which amended the United States Housing Act of 1937. QHWRA made comprehensive changes to HUD's public housing, Section 8 programs. Some of the changes made by the 1998 Act (i.e., QHWRA) affect public housing only and others affect the Section 8 and public housing programs. These changes cover choice of rent, community service and self-sufficiency in public housing; and admission preferences and determination of income and rent in public housing and Section 8 housing assistance programs.

DATES: Comments Due Date: April 4, 2013.

ADDRESSES: Interested persons are invited to submit comments regarding this proposal. Comments should refer to the proposal by name and/or OMB approval Number (2577-0230) and should be sent to: HUD Desk Officer, Office of Management and Budget, New Executive Office Building, Washington, DC 20503; fax: 202-395-5806. Email: OIRA_Submission@omb.eop.gov fax: 202-395-5806.

FOR FURTHER INFORMATION CONTACT: Colette Pollard., Reports Management Officer, QDAM, Department of Housing and Urban Development, 451 Seventh Street SW., Washington, DC 20410; email Colette Pollard at Colette.Pollard@hud.gov. or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposed: Public Housing Reform; Change in Admission and Occupancy Requirements.

OMB Approval Number: 2577-0230.

Form Numbers: None.

Description of the need for the information and proposed use: The collection of information implements changes to the admission and occupancy requirements for the public housing and Section 8 assisted housing programs made by the Quality Housing and Work Responsibility (QHWRA) Act 1998 (Title V of the FY 1999 HUD appropriations Act, Pub. L. 105-276, 112 Stat. 2518, approved October 21, 1998), which amended the United States Housing Act of 1937. QHWRA made comprehensive changes to HUD's public housing, Section 8 programs. Some of the changes made by the 1998 Act (i.e., QHWRA) affect public housing only and others affect the Section 8 and public housing programs. These changes cover choice of rent, community service and self-sufficiency in public housing; and admission preferences and determination of income and rent in public housing and Section 8 housing assistance programs.

| Number of respondents | Annual responses | × | Hours per response | = | Burden hours
Reporting Burden | 4,058 | 1 |  | 24 |  | 97,392

Total Estimated Burden Hours: 97,392.

Status: Revision of a Currently Approved Collection.

Authority: Section 3507 of the Paperwork Reduction Act of 1995, 44 U.S.C. 35, as amended.

Dated: February 27, 2013.
Colette Pollard,
Department Reports Management Officer, Office of the Chief Information Officer.

[FR Doc. 2013-05082 Filed 3-4-13; 8:45 am]

BILLING CODE 4210-67-P